NUCLEAR REGULATORY COMMISSION

[NRC-2021-0096]

Control of Heavy Loads at Nuclear Facilities

AGENCY: Nuclear Regulatory Commission.

ACTION: Draft regulatory guide; request for comment.

SUMMARY: The U.S. Nuclear Regulatory Commission (NRC) is issuing for public comment draft regulatory guide (DG), DG-1381, “Control of Heavy Loads at Nuclear Facilities.” This DG is a proposed new regulatory guide to endorse selected national consensus standards related to heavy load handling that replace NRC technical reports. The national consensus standards provide greater flexibility in the selection of lifting equipment and have incorporated recent operating experience to provide a more accurate risk-informed perspective of heavy load handling activities.

DATES: Submit comments by June 3, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods, however, the NRC encourages electronic comment submission through the Federal Rulemaking website:

• Federal Rulemaking Website: Go to https://www.regulations.gov and search for Docket ID NRC-2021-0096. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Steven R. Jones, Office of Nuclear Reactor Regulation, telephone: 301-415-2712, email: Steve.Jones@nrc.gov; or Stanley Gardocki, Office of Nuclear Regulatory Research, telephone: 301-415-1067, email: Stanley.Gardocki@nrc.gov. Both are staff of the U.S. Nuclear Regulatory Commission, Washington, DC 20555-0001.

SUPPLEMENTARY INFORMATION:

I. Obtaining Information and Submitting Comments

A. Obtaining Information

Please refer to Docket ID NRC-2021-0096 when contacting the NRC about the availability of information for this action. You may obtain publicly available information related to this action by any of the following methods:

• Federal Rulemaking Website: Go to https://www.regulations.gov and search for Docket ID NRC-2021-0096.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC-2021-0096 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

The DG, titled “Control of Heavy Loads at Nuclear Facilities,” is temporarily identified by its task number, DG-1381 (ADAMS Accession No. ML21006A335). The draft guide is a proposed new regulatory guide for control of heavy loads at nuclear facilities to provide reasonable assurance safety functions would be accomplished following handling system equipment failure. The existing guidance is contained in technical reports NUREG-0612, “Control of Heavy Loads in Nuclear Power Plants,” dated August 1980 (ADAMS Accession No. ML070250180) and NUREG-0554, “Single Failure-Proof Cranes for Nuclear Power Plants,” dated May 1979 (ADAMS Accession No. ML110450636). This guidance has not been updated and does not reflect a current risk-informed perspective regarding heavy load handling activities. To provide updated guidance, DG-1381 endorses, with clarifications, the following consensus standards:

• American Society of Mechanical Engineers (ASME) Standard (Std.) NML-1, “Rules for the Movement of Loads Using Overhead Handling Equipment in Nuclear Facilities,” 2019.

• ASME Std. NOG-1, “Rules for Construction of Overhead and Gantry Cranes (Top Running Bridge, Multiple Girder),” 2020.

• ASME Std. BTH-1, “Design of Below-the-Hook Lifting Devices,” 2017, Chapters 1 through 3.

The use of consensus standards where available is consistent with Commission Policy and provides updated information reflecting operating experience.

The staff is also issuing for public comment a draft regulatory analysis (ADAMS Accession No. ML21006A337). The staff develops a regulatory analysis to assess the value of issuing or revising a regulatory guide as well as alternative courses of action.

III. Backfitting, Forward Fitting, and Issue Finality

Issuance of DG-1381, if finalized, would not constitute backfitting as that term is defined in Section 50.109 of title 10 of the Code of Federal Regulations (10 CFR) “Backfitting,” and as described in NRC Management Directive 8.4, “Management of Backfitting, Forward Fitting, Issue Finality, and Information Requests”; constitute forward fitting as that term is defined and described in MD 8.4; or affect issue finality of any approval issued under 10 CFR part 52, “Licenses, Certificates, and Approvals for Nuclear Power Plants.” As explained in DG-1381, applicants and licensees are not required to comply with the positions set forth in DG-1381.

Dated: April 28, 2021.
For the Nuclear Regulatory Commission.
Meraj Rahimi,
Chief, Regulatory Guidance and Generic Issues Branch, Division of Engineering, Office of Nuclear Regulatory Research.

[FR Doc. 2021-09275 Filed 5-3-21; 8:45 am]

BILLING CODE 7590-01-P